DEPARTMENT OF ENERGY

Federal Energy Regulatory Commission

[Docket No. EL02-97-000]

East Kentucky Power Cooperative, Inc. v. Louisville Gas and Electric Company and Kentucky Utilities; Notice of Conference

July 15, 2002.

Pursuant to Rule 601 of the Commission's Rules and Practice and Procedure 18 CFR 385.601, the Dispute Resolution Service will convene a Conference on Thursday and Friday, July 25 and 26, 2002, to discuss how Alternative Dispute Resolution processes and procedures may assist the participants in resolving disputes arising in the above docketed proceeding. The conference will be held at the Sheraton Suites Lexington, 2601 Richmond Rd, Lexington, KY (859-268-0060), beginning at 1 p.m. on July 25 and ending approximately 1 p.m. July 26.

Jerrilynne Purdy, acting for the Dispute Resolution Service, will convene the Conference. She will be available to communicate in private with any participant prior to the conference. If a participant has any questions regarding the conference, please call Ms. Purdy at 202-208-2232 or email jerrilynne.purdy@ferc.gov. Parties may also communicate with Richard Miles, the Director of the Commission's Dispute Resolution Service at 1-877FERC ADR (337-2237) or email richard.miles@ferc.gov.

Linwood A. Watson, Jr.,
Deputy Secretary.

[FR Doc. 02-18285 Filed 7-18-02; 8:45 am]

BILLING CODE 6717-01-P